DEPARTMENT OF AGRICULTURE

Forest Service

Olympic Provincial Interagency Executive Committee (PIEC) Advisory Committee

AGENCY: Forest Service, USDA.

ACTION: Notice of Meeting.

SUMMARY: The Olympic PIEC Advisory Committee will meet on May 19, 2000. The meeting will be held at the Olympic Natural Resource Center's conference room in Forks, Washington. The meeting will begin at 9:00 AM and end at approximately 3:30 PM. Agenda topics are: (1) Survey and Manage Forest Management Strategy; (2) Intergovernmental Advisory Committee Update; (3) Regional Ecosystems Office Update; (4) Olympic Discovery Trail Proposal; (5) Open forum; and (6) Public comments.

All Olympic Province Advisory Committee Meetings are open to the public. Interested citizens are encourage to attend.

FOR FURTHER INFORMATION CONTACT: Direct questions regarding this meeting to Ken Eldredge, Province Liaison, USDA, Olympic National Forest Headquarters, 1835 Black Lake Blvd., Olympia, WA 98512-5623, (360) 956-2323 or Dale Hom, Forest Supervisor, at (360) 956-2301.

Dated: April 17, 2000.
Dale Hom,
Forest Supervisor, Olympic National Forest.

[FR Doc. 00-10629 Filed 4-27-00; 8:45 am]

BILLING CODE 3410-11-M